DEPARTMENT OF HEALTH AND HUMAN SERVICES

Health Resources and Services Administration

Advisory Commission on Childhood Vaccines Meeting; Correction

AGENCY: Health Resources and Services Administration (HRSA), Department of Health and Human Services.

ACTION: Notice; correction.

SUMMARY: HRSA published a notice in the Federal Register on February 2, 2024, concerning 2024 calendar year meetings of the Advisory Commission on Childhood Vaccines (ACCV). The notice contained incorrect dates. The notice originally stated the 2024 calendar year meetings will take place in “2023” and the meeting dates are being updated to say “2024.”

FOR FURTHER INFORMATION CONTACT: Pita Gomez, Principal Staff Liaison, Division of Injury Compensation Programs, HRSA, 5600 Fishers Lane, 8W-25A, Rockville, Maryland, 20857; 800-338-2382; or ACCV@hrsa.gov

SUPPLEMENTARY INFORMATION:

Correction

In the Federal Register of February 2, 2024, FR Doc. 2024-02106, page 7400, column 2, correct the DATES caption to read: “The ACCV meetings will be held on:

• March 7, 2024, 1 p.m. eastern time (ET)-4 p.m. ET;

• March 8, 2024, 1 p.m. ET-4 p.m. ET;

• September 5, 2024, 1 p.m. ET-4 p.m. ET;

• September 6, 2024, 1 p.m. ET-4 p.m. ET.”

Maria G. Button,
Director, Executive Secretariat.

[FR Doc. 2024-03824 Filed 2-23-24; 8:45 am]

BILLING CODE 4165-15-P